DEPARTMENT OF JUSTICE

[OMB Number 1117-1NEW]

Agency Information Collection Activities; Proposed eCollection eComments Requested; New Collection; Title—DEA Voluntary Wellness Program Healthcare Provider Clearance

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until October 3, 2025.

FOR FURTHER INFORMATION CONTACT: If you have additional comments especially on the estimated public burden or associated response time, suggestions, or need a copy of the proposed information collection instrument with instructions or additional information, please contact Benjamin Inks, Writer/Editor, Office of Compliance, Policy Administration Section, 700 Army Navy Drive, Arlington, VA 22202, telephone: 571-672-4524, email: Benjamin.B.Inks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The collection of information via the DEA-315c form is necessary to determine whether DEA employees are medically cleared to safely participate in physical fitness activities under the Voluntary Wellness Program (VWP). This requirement is both a matter of workplace safety and an essential component of the agency's broader health and wellness initiatives.

Pursuant to DEA Personnel Manual 2792, employees must submit a health assessment completed by a licensed medical professional prior to engaging in VWP activities. This process ensures that participation is medically appropriate based on the individual's current health status and minimizes the risk of injury or exacerbation of existing conditions.

The requirement to collect this information is further supported by administrative directives that promote employee well-being and support the safe implementation of agency-sponsored wellness programs. A copy of the relevant section of DEA Personnel Manual 2792 is attached in accordance with the request.

Overview of This Information Collection

1. Type of Information Collection: New.

2. The Title of the Form/Collection: Voluntary Wellness Program (VWP) Healthcare Provider Clearance.

3. The agency form number, if any, and the applicable component of the Department sponsoring the collection: Form number: DEA-315c. The sponsoring component is the Drug Enforcement Administration.

4. Affected public who will be asked or required to respond, as well as the obligation to respond: a licensed medical professional must complete the form prior to the DEA employee being allowed to participate in the VWP.

5. An estimate of the total number of respondents and the amount of time estimated for an average respondent to respond: The total or estimated number of respondents for the DEA-315c is 100. The time per response is 45 minutes.

6. An estimate of the total annual burden (in hours) associated with the collection: The total annual burden hours for this collection is 75 hours.

7. An estimate of the total annual cost burden associated with the collection, if applicable: 0 for the DEA.

Total Burden Hours
Activity | Number of respondents | Frequency | Total annual responses | Time per response (minutes) | Total annual burden (hours)
DEA Form 315c | 100 | 1 × per year | 100 | 45 | 75
Unduplicated Totals |  |  |  |  |

If additional information is required contact: Darwin Arceo, Department Clearance Officer, United States Department of Justice, Justice Management Division, Policy and Planning Staff, Two Constitution Square, 145 N Street NE, 4W-218, Washington, DC.

Dated: July 31, 2025.
Darwin Arceo,
Department Clearance Officer for PRA, U.S. Department of Justice.

[FR Doc. 2025-14706 Filed 8-1-25; 8:45 am]

BILLING CODE 4410-09-P